DEPARTMENT OF STATE

[Public Notice: 11815]

Report to Congress Pursuant to Section 353(b) of the United States—Northern Triangle Enhanced Engagement Act

ACTION: Notice of report.

SUMMARY: This report on Corrupt and Undemocratic Actors is submitted in fulfilment of the State Department's congressional reporting requirement for 2022 regarding foreign persons who have knowingly engaged in actions that undermine democratic processes or institutions, significant corruption, or obstruction of such corruption in El Salvador, Guatemala, and Honduras pursuant to Section 353(b) of the United States—Northern Triangle Enhanced Engagement Act. On November 10, 2021, the president signed the Reinforcing Nicaragua's Adherence to Conditions for Electoral Reform (RENACER) Act, which added Nicaragua to the countries subject to the Section 353 Corrupt and Undemocratic Actors list.

SUPPLEMENTARY INFORMATION: Report to Congress on Foreign Persons Who Have Knowingly Engaged in Actions that Undermine Democratic Processes or Institutions, Significant Corruption, or Obstruction of Investigations Into Such Acts of Corruption in El Salvador, Guatemala, Honduras, and Nicaragua, Pursuant to Section 353(b) of the Department of State, Foreign Operations, and Related Programs Appropriations Act, 2021 (Div. FF, Pub. L. 116-260, as amended) (Section 353).

Consistent with Section 353(b) of the United States—Northern Triangle Enhanced Engagement Act (Div. FF, Pub. L. 116-260) (the Act), as amended, this report is being submitted to the House Foreign Affairs Committee, Senate Foreign Relations Committee, House Committee on the Judiciary, and the Senate Committee on the Judiciary.

Section 353(b) requires the submission of a report that identifies the following persons in El Salvador, Guatemala, Honduras, and Nicaragua: foreign persons who the President has determined have knowingly engaged (1) in actions that undermine democratic processes or institutions; (2) in significant corruption; and (3) in obstruction of investigations into such acts of corruption, including the following: corruption related to government contracts; bribery and extortion; the facilitation or transfer of the proceeds of corruption, including through money laundering; and acts of violence, harassment, or intimidation directed at governmental and nongovernmental corruption investigators. On November 10, 2021, the President signed the Reinforcing Nicaragua's Adherence to Conditions for Electoral Reform (RENACER) Act, adding Nicaragua to the countries within the scope of Section 353. On June 21, 2021, the President delegated his authority under Section 353 to the Secretary of State.

Under Section 353, foreign persons identified in the report submitted to Congress are generally ineligible for visas and admission to the United States and any current visa shall be revoked immediately and any other valid visa or entry documentation cancelled. Consistent with Section 353(g), this report will be published in the Federal Register.

This report includes individuals who the Secretary has determined have engaged in the relevant activity based upon credible information or allegations of the conduct at issue, from media reporting and other sources. The Department will continue to review the individuals listed in the report and consider all available tools to deter and disrupt corrupt and undemocratic activity in El Salvador, Guatemala, Honduras, and Nicaragua. The Department also continues to actively review additional credible information and allegations concerning corruption or undemocratic activity and to utilize all applicable authorities, as appropriate, to ensure corrupt or undemocratic officials are denied safe haven in the United States.

El Salvador

Cecilia Coronada Alvarenga de Figueroa, spouse of former Public Security Minister Rene Mario Figueroa Figueroa, facilitated the transfer of proceeds of corruption when she assisted her husband in laundering over $3 million in public funds, while her husband was Minister of Public Security during the Saca administration.

Rene Mario Figueroa Figueroa, former Public Security Minister under the Saca Administration, during his time as Minister engaged in significant corruption when he converted $3 million in public funds for his and his wife's personal use and, with his wife, laundered those funds.

Jose Wilfredo Salgado Garcia, Mayor of San Miguel, undermined democratic processes or institutions when he used his official position to participate in drug trafficking and money laundering while mayor of San Miguel, El Salvador's second largest city. Salgado used his connections with city law enforcement to intimidate his electoral opponent's family.

Francisco Javier Argueta Gomez, current Presidential Legal Advisor, undermined democratic processes or institutions by masterminding the removal of five Supreme Court Magistrates and the Attorney General in an unusual process in apparent contravention of the processes set out in Article 186 of the Constitution, which requires the selection of such Magistrates from a list of candidates drafted by the National Council of the Judiciary.

Christian Reynaldo Guevara Guadron, Legislative Assembly Deputy and Nuevas Ideas Party's Chief of Faction, undermined democratic processes or institutions when he introduced a Gang Prohibition Law that will punish with up to 15 years in prison the dissemination of gang messages in the media, considered by many observers to be a clear attempt to censor the media.

Jose Ernesto Sanabria, current Presidential Press Secretary, undermined democratic processes or institutions by using his position and wielding the Presidency's influence to inappropriately pressure officials in opposition political parties to resign on threat of being charged with criminal offenses.

Guatemala

Dennis Billy Herrera Arita, a Guatemalan lawyer, undermined the democratic process or institutions by participating in the “Parallel Commissions 2020” scheme to stack the Supreme and Appellate Courts with corrupt judges.

Carlos Estuardo Galvez Barrios, former Rector of the University of San Carlos (USAC), undermined the democratic process or institutions by using his standing in the legal community to influence members of the judicial nomination commission in the facilitation of the “Parallel Commissions 2020” scheme to stack the Supreme Court and Appellate Courts with corrupt judges.

Jose Rafael Curruchiche Cacul (Rafael Curruchiche), the current chief of the Public Ministry's Office of the Special Prosecutor Against Impunity (FECI), obstructed investigations into acts of corruption by disrupting high-profile corruption cases against government officials and raising apparently spurious claims against FECI prosecutors, private attorneys, and former International Commission Against Impunity in Guatemala (CICIG) prosecutors.

Axel Arturo Samayoa Camacho, the owner of several trucking and shipping companies operating in the government-run EMPORNAC (Atlantic) and EPQ (Pacific) ports, engaged in significant corruption by improperly colluding with public officials and paying bribes to ensure his companies won lucrative port contracts.

Ramiro Mauricio Lopez Camey, the current co-owner of construction company Asfaltos y Petróleos S.A. (Aspetro), engaged in significant corruption by paying bribes to receive government construction contracts.

Ramon “Moncho” Campollo Codina, a current owner of Corporacion Energias de Guatemala, engaged in significant corruption by bribing public officials and in a manner that harmed U.S. commercial and policy goals to improve energy efficiency.

Geisler Smaille Perez Dominguez, a current judge for the Third Criminal Court, undermined democratic processes by obstructing prosecutions of proponents of the “Parallel Commissions 2020” scheme to stack the Supreme Court and Appellate Courts with corrupt judges.

Sofia Janeth Hernandez Herrera, the current congressional representative for the Union del Cambio Nacional (UCN) party, undermined the democratic process or institutions by misusing her official powers to intimidate her political opponents. She also solicited bribes and threatened to weaponize the legitimate purposes of Guatemala's congress to retaliate against her enemies for personal benefit.

Steffan Christian Emanuel Lehnhoff Hernandez, a current owner of Corporacion Energias de Guatemala, engaged in significant corruption by bribing public officials and in a manner that harmed U.S. commercial and policy goals to improve energy efficiency.

Mayra Alejandra Carrillo de Leon (Alejandra Carrillo), current Director of the Victim's Institute, undermined the democratic process or institutions by using her official position to facilitate the “Parallel Commissions 2020” scheme to stack the Supreme Court and Appellate Courts with corrupt judges.

Erick Gustavo Santiago de Leon, a former judge and President of the Regional Appeal Civil Court, engaged in significant corruption and obstructed investigations into acts of corruption by soliciting bribes in return for favorable court rulings in cases before him.

Nery Oswaldo Medina Mendez, a current Supreme Court of Justice magistrate, undermined the democratic process or institutions by participating in the “Parallel Commissions 2020” scheme to stack the Supreme Court and Appellate Courts with corrupt judges.

Vitalina Orellana y Orellana, a current Supreme Court of Justice magistrate, undermined the democratic process or institutions by participating in the “Parallel Commissions 2020” scheme to stack the Supreme Court and Appellate Courts with corrupt judges.

Mauricio Lopez Oliva, the current co-owner of construction company Asfaltos y Petróleos S.A. (Aspetro), engaged in significant corruption by paying bribes to receive government construction contracts.

Victor Manuel Cruz Rivera, a current Criminal Court Judge, obstructed investigations into acts of corruption by improperly delaying court proceedings.

José Luis Benito Ruiz, the former Minister of Communications and Infrastructure from 2018-2020, engaged in significant corruption when he solicited, accepted, and offered bribes in order to maintain his official position and receive kickbacks from contractors, and facilitated the transfer of proceeds of corruption.

Honduras

Harvis Edulfo Herrera Carballo, General Manager at the Presidential Palace from 2010 to 2014, transferred proceeds of corruption when he aided the misappropriation of more than $500,000 from Bono 10 Mil, a presidential project aimed at reducing rural poverty.

Elmer Jeovanny Ordonez Espinal, Internal Controls Supervisor of the National Bank for Agricultural Development from 2010 to 2014, transferred proceeds of corruption when he aided the misappropriation of more than $500,000 from Bono 10 Mil, a presidential project aimed at reducing rural poverty.

Rasel Antonio Tome Flores, Vice President of Congress, engaged in significant corruption when he used his position as President of the National Telecommunications Commission to misappropriate approximately $327,000 in public funds.

Claudia Yamilia Noriega González, Project Coordinator for the “Catracha Card” Program from 2010 to 2014, transferred proceeds of corruption when she aided the misappropriation of more than $500,000 from Bono 10 Mil, a presidential project aimed at reducing rural poverty.

Carol Vanessa Alvarado Izaguirre, Finance Manager at the Presidential Palace in 2014, transferred proceeds of corruption when she aided the misappropriation of more than $500,000 from Bono 10 Mil, a presidential project aimed at reducing rural poverty.

Enrique Alberto Flores Lanza, Minister of Presidency from 2008 to 2009, engaged in significant corruption by receiving $2 million in public money from the Honduran Central Bank and improperly redistributing it to political allies.

Juan Ramon Maradiaga, General Manager of the National Bank for Agricultural Development (BANADESA) from 2010 to 2014, transferred proceeds of corruption when he aided the misappropriation of more than $500,000 from Bono 10 Mil, a presidential project aimed at reducing rural poverty.

Edgardo Antonio Casaña Mejia, a current member of Congress, engaged in significant corruption by improperly restructuring the National Institute for Teachers' Pensions to direct more than $5 million in benefits to political allies and constituents, in order to secure votes and maintain political power.

Roberto David Castillo Mejia, member of the Executive Committee of the Honduran Electrical Company (ENEE) from 2006 to 2009, engaged in corruption related to government contracts when he used his position on the ENEE Executive Committee to interfere in the public procurement process and steer contracts to a company in which he had a financial interest.

Carlos Josué Romero Puerto, Project Coordinator for Bono10 Mil, transferred proceeds of corruption when he aided the misappropriation of more than $500,000 from Bono 10 Mil, a presidential project aimed at reducing rural poverty.

Carlos Josue Montes Rodriguez, Vice Secretary of Labor in 2011, engaged in significant corruption by accepting bribes to improperly award contracts to political allies and to expedite payments.

Gonzalo Molina Solorzano, Chief of Supply for the National Bank for Agricultural Development from 2010 to 2014, transferred proceeds of corruption when he aided the misappropriation of more than $500,000 from Bono 10 Mil, a presidential project aimed at reducing rural poverty.

Juan Carlos “El Tigre” Bonilla Valladares, Director of the National Police from 2012 to 2013, engaged in significant corruption when he used his position as Director of the National Police to facilitate movement of cocaine through Honduras in exchange for bribes.

Javier Rodolfo Pastor Vasquez, Vice Minister of Health in 2011, engaged in significant corruption by accepting $235,000 in bribes to interfere in public procurement procedures to improperly award contracts to political allies and to expedite payments.

Nicaragua

Yubelca del Carmen Perez Alvarado, a prosecutor in the Public Prosecutor's Office headquarters in Managua, undermined democratic processes or institutions by bringing spurious charges in order to jail regime opponents in the leadup to national elections.

Erick Ramon Laguna Averruz, a judge, undermined democratic processes or institutions when he convicted and sentenced prodemocracy leaders on vague, false charges of “undermining national integrity” in the sham trials of opposition activist Alexis Peralta and farmer without political affiliation Santos Camilo Bellorin.

Perla de los Angeles Baca, a Chief Prosecutor in Chinandega Department, undermined democratic processes or institutions by bringing spurious charges in order to jail regime opponents in the leadup to national elections.

Rosa Velia Baca Cardoza, a judge, undermined democratic processes or institutions when she convicted and sentenced a prodemocracy leader on vague, false charges of “undermining national integrity” in the sham trial of opposition activist Donald Alvarenga.

Carlos Rafael Espinoza Castilla, a prosecutor, undermined democratic processes or institutions by bringing spurious charges in order to jail regime opponents in the leadup to national elections.

Irma Oralya Laguna Cruz, a judge, undermined democratic processes or institutions when she convicted and sentenced a prodemocracy leader on vague, false charges of “undermining national integrity” in the sham trial of opposition activist Evelyn Pinto.

Luis Alberto Mena Gamez, a prosecutor in Nueva Segovia, undermined democratic processes or institutions by bringing the regime's case against political prisoner Douglas Cerros and by pursuing spurious charges, convictions, and harsh sentences against private citizens who are critical of the government.

Luden Martin Quiroz Garcia, a judge, undermined democratic processes or institutions when he convicted and sentenced prodemocracy leaders on vague, false charges of “undermining national integrity” in the sham trials of opposition leader Ana Margarita Vijil, journalist Miguel Mendoza, former Foreign Minister Mauricio Diaz, former presidential candidate Cristiana Chamorro, opposition member Pedro Joaquin Chamorro, employees of the Violeta Barrios de Chamorro Foundation (FVBCH) Pedro Vasquez, Walter Gomez, and Marcos Fletes; and former National Assembly member Maria Fernanda Flores.

Melvin Leopoldo Vargas Garcia, a judge, undermined democratic processes or institutions when he convicted and sentenced a prodemocracy leader on vague, false charges of “undermining national integrity” in the sham trial of opposition activist Samantha Jiron.

Angel Jancarlos Fernandez Gonzalez, a judge, undermined democratic processes or institutions when he convicted and sentenced prodemocracy leaders on vague, false charges of “undermining national integrity” in the sham trials of private sector leaders Luis Rivas, Michael Healy, and Alvaro Vargas; former Sandinista leader Dora Maria Tellez; opposition leaders Jose Antonio Peraza and Victor Hugo Tinoco.

Nancy Del Carmen Aguirre Gudiel, a judge, undermined democratic processes or institutions when she convicted and sentenced a prodemocracy leader on vague, false charges of “undermining national integrity” in the sham trial of opposition activist Irving Larios.

Jorge Luis Arias Jarquin, a prosecutor in the Public Prosecutor's Office headquarters in Managua, undermined democratic processes or institutions by bringing spurious charges in order to jail regime opponents in the leadup to national elections.

William Irving Howard Lopez, a judge, undermined democratic processes or institutions when he convicted and sentenced a prodemocracy leader on vague, false charges of “undermining national integrity” in the sham trial of opposition activist Nidia Barbosa.

Martha Ileana Morales Mendoza, a prosecutor and the Director of Planning at the Public Prosecutor's Office headquarters in Managua, undermined democratic processes or institutions by bringing spurious charges in order to jail regime opponents in the leadup to national elections.

Maria Francis Perez Mojica, a prosecutor in Nueva Segovia, undermined democratic processes or institutions when she led the regime's case against pro-democracy activist and political prisoner Donald Alvarenga and pursued spurious charges, convictions, and harsh sentences against the regime's prodemocracy opponents.

Veronica Fiallos Moncada, a judge, undermined democratic processes or institutions when she convicted and sentenced a prodemocracy leader on vague, false charges of “undermining national integrity” in the sham trial of political prisoner Douglas Cerros.

Felix Ernesto Salmeron Moreno, a judge, undermined democratic processes or institutions when he convicted and sentenced prodemocracy leaders on vague, false charges of “undermining national integrity” in the sham trials of former presidential candidates Juan Sebastian Chamorro, Felix Maradiaga, Arturo Cruz, and Medardo Mairena; civic leaders Pedro Mena, Jose Pallais, Violeta Granera, Tamara Davila, Jose Quintanilla Hernandez, Roger Reyes; and business leader Jose Adan Aguerri.

Rolando Salvador Sanarrusia Munguia, a judge, undermined democratic processes or institutions when he convicted and sentenced prodemocracy leaders on vague, false charges of “undermining national integrity” in the sham trial of opposition activist Yoel Sandino.

Marling de Jesus Castro Rodriguez, a prosecutor in the Public Prosecutor's Office headquarters in Managua, undermined democratic processes or institutions by bringing spurious charges in order to jail regime opponents in the leadup to national elections.

Nadia Camila Tardencilla Rodriguez, a judge, undermined democratic processes or institutions when she convicted and sentenced prodemocracy leaders on vague, false charges of “undermining national integrity” in the sham trials of student leaders Lesther Aleman and Max Jerez, former presidential candidate Miguel Mora, political analyst Edgar Parrales, Director of La Prensa newspaper Juan Lorenzo Holmann, and electoral expert Harry Chavez.

Andrea del Carmen Salas, a prosecutor in the Public Prosecutor's Office headquarters in Managua, undermined democratic processes or institutions by bringing spurious charges in order to jail regime opponents in the leadup to national elections.

Ulisa Yahoska Tapia Silva, a judge, undermined democratic processes or institutions when she convicted and sentenced prodemocracy leaders on vague, false charges of “undermining national integrity” in the sham trials of opposition activists Yaser Vado and Yader Parajon, former Foreign Minister Francisco Aguirre Sacasa, opposition leader Suyen Barahona, civic leader Freddy Navas, human rights lawyer Maria Oviedo, former presidential candidate Noel Vidaurre, and political commentator Jaime Arellano.

Auxiliadora del Carmen Sequeira Suazo, a prosecutor in Esteli, undermined democratic processes or institutions by bringing the regime's case against pro-democracy activist and political prisoner Alexis Peralta and by pursuing spurious charges, convictions, and harsh sentences against regime opponents.

Dated: August 2, 2022.
Wendy R. Sherman,
Deputy Secretary of State.

[FR Doc. 2022-17215 Filed 8-10-22; 8:45 am]

BILLING CODE 4710-29-P